DEPARTMENT OF VETERANS AFFAIRS

[OMB Control No. 2900-0353]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 3, 2002.

FOR FURTHER INFORMATION CONTACT: Denise McLamb, Information Management Service (045A4), Department of Veterans Affairs, 810 Vermont Avenue, NW, Washington, DC 20420, (202) 273-8130, FAX (202) 273-5981 or e-mail: denise.mclamb@mail.va.gov. Please refer to “OMB Control No. 2900-0353.”

Send comments and recommendations concerning any aspect of the information collection to VA's OMB Desk Officer, OMB Human Resources and Housing Branch, New Executive Office Building, Room 10235, Washington, DC 20503 (202) 395-7316. Please refer to “OMB Control No. 2900-0353” in any correspondence.

SUPPLEMENTARY INFORMATION: Title: Certification of Lessons Completed, VA Forms 22-6553b and 22-6553b-1, (Chapters 30, 32, and 35, Title 38, U.S.C.; Chapter 1606, Title 10, U.S.C., and Section 903, Pub. L. 96-342).

OMB Control Number: 2900-0353.

Type of Review: Extension of a currently approved collection.

Abstract: VA Forms 22-6553b and 22-6553b-1 are used to determine the number of lessons completed by the student and serviced by the correspondence school. Students receiving education benefits for correspondence training complete their portions of the forms and submit the forms to the school for certification. The schools' certifying official certifies the number of lessons serviced and submits the forms to VA for processing. VA uses the information to determine continuing eligibility for benefits and the proper amount payable.

An agency may not conduct or sponsor, and a person is not required to respond to a collection of information unless it displays a currently valid OMB control number. The Federal Register notice with a 60-day comment period soliciting comments on this collection of information was published on February 28, 2002, at pages 9359-9360.

Affected Public: Individuals or households, Business or other for-profit.

Estimated Annual Burden: 1,780 hours.

Estimated Average Burden Per Respondent: 10 minutes.

Frequency of Response: Quarterly.

Estimated Number of Respondents: 3,559.

Estimated Number of Responses: 10,617.

Dated: May 9, 2002.
By direction of the Secretary.
Genie McCully,
Acting Director, Information Management Service.

[FR Doc. 02-13750 Filed 5-31-02; 8:45 am]

BILLING CODE 8320-01-P